NUCLEAR REGULATORY COMMISSION

[Docket No. 72-26-ISFSI; ASLBP No. 02-801-01-ISFSI]

Atomic Safety and Licensing Board; Pacific Gas and Electric Co.; (Diablo Canyon Power Plant Independent Spent Fuel Storage Installation); Notice (Notice of Opportunity To Make Oral or Written Limited Appearance Statements)

January 16, 2003.

Before Administrative Judges: G. Paul Bollwerk, III, Chairman, Dr. Jerry R. Kline, Dr. Peter S. Lam.

The Atomic Safety and Licensing Board hereby gives notice that, in accordance with 10 CFR 2.715(a), the Board will conduct sessions to provide the public with an opportunity to make oral limited appearance statements in connection with this proceeding regarding the December 21, 2001 application of Pacific Gas and Electric Company (PG&E) under 10 CFR part 72 for permission to construct and operate an independent spent fuel storage installation (ISFSI) at its Diablo Canyon Power Plant (DCPP) site near San Luis Obispo, California.

A. Date, Time, and Location of Oral Limited Appearance Statement Sessions

These sessions will be on the following dates at the specified location and times:

1. Date: Sunday, March 23, 2003.

Time: Afternoon Session (if there is sufficient interest)—3 p.m. to 7 p.m. Pacific Standard Time (PST).

Location: Embassy Suites Hotel, San Luis Obispo Room, 333 Madonna Rd., San Luis Obispo, California 93405.

2. Date: Monday, March 24, 2003.

Times: Morning Session (if there is sufficient interest)—10 a.m. to Noon PST, Afternoon Session—1:30 p.m. to 4:30 p.m. PST, Evening Session—6:30 p.m. to 9:30 p.m. PST.

Location: Same as Session 1 above.

B. Participation Guidelines for Oral Limited Appearance Statements

Any person not a party, or the representative of a party, to the proceeding will be permitted to make an oral statement setting forth his or her position on matters of concern relating to this proceeding. Although these statements do not constitute testimony or evidence, they nonetheless may help the Board and/or the parties in their consideration of the issues in this proceeding.

Oral limited appearance statements will be entertained during the hours specified above, or such lesser time as may be necessary to accommodate the speakers who are present. In this regard, if all scheduled and unscheduled speakers present at a session have made a presentation, the Licensing Board reserves the right to terminate the session before the ending time listed above. The Licensing Board also reserves the right to cancel the Sunday afternoon and/or Monday morning sessions scheduled above if there has not been a sufficient showing of public interest as reflected by the number of preregistered speakers.

The time allotted for each statement normally will be no more than five minutes, but may be further limited depending on the number of written requests to make an oral statement that are submitted in accordance with section C below and/or the number of persons present at the designated times. In addition, although an individual may request an opportunity to speak at more than one session, the Licensing Board reserves the right to defer an additional presentation by the same individual until after it has heard from speakers who have not had an opportunity to make an initial presentation.

C. Submitting a Request To Make an Oral Limited Appearance Statement

Persons wishing to make an oral statement who have submitted a timely written request to do so will be given priority over those who have not filed such a request. To be considered timely, a written request to make an oral statement must be mailed, faxed, or sent by e-mail so as to be received by close of business (4:30 p.m. EST) on Friday, March 14, 2003. The request must specify the date (March 23 or March 24) and the session on that day (morning, afternoon or evening) during which the requester wishes to make an oral statement. Based on its review of the requests received by March 14, 2003, the Licensing Board may decide that the Sunday afternoon and/or Monday morning sessions will not be held due to lack of adequate interest in those sessions.

Written requests to make an oral statement should be submitted to:

Mail: Office of the Secretary, Rulemakings and Adjudications Staff, U.S. Nuclear Regulatory Commission, Washington, DC 20555-0001.

Fax: (301) 415-1101 (verification (301) 415-1966).

E-mail: hearingdocket@nrc.gov.

In addition, using the same method of service, a copy of the written request to make an oral statement should be sent to the Chairman of this Licensing Board as follows:

Mail: Administrative Judge G. Paul Bollwerk, III, Atomic Safety and Licensing Board Panel, Mail Stop T-3F23, U.S. Nuclear Regulatory Commission, Washington, DC 20555-0001.

Fax: (301) 415-5599 (verification (301) 415-7550).

E-mail: pah@nrc.gov and gpb@nrc.gov.

D. Submitting Written Limited Appearance Statements

As the Board noted previously in its December 27, 2002 notice of hearing (68 FR 391 (Jan. 3, 2003)), a written limited appearance statement can be submitted at any time. Such statements should be sent to the Office of the Secretary using the methods prescribed above, with a copy to the Licensing Board Chairman.

E. Availability of Documentary Information Regarding the Proceeding

Documents relating to this proceeding are available for public inspection at the Commission's Public Document Room (PDR), located at One White Flint North, 11555 Rockville Pike (first floor), Rockville, Maryland, or electronically from the publicly available records component of NRC's document system (ADAMS). ADAMS is accessible from the NRC Web site at http://www.nrc.gov/reading-rm/adams.html (the Public Electronic Reading Room). Persons who do not have access to ADAMS or who encounter problems in accessing the documents located in ADAMS should contact the NRC PDR reference staff by telephone at 1-800-397-4209 or 301-415-4737, or by e-mail to pdr@nrc.gov.

It is so ordered.

Dated: January 16, 2003.
For the Atomic Safety and Licensing Board.*
* Copies of this notice were sent this date by Internet e-mail transmission to counsel for (1) applicant PG&E; (2) petitioners San Luis Obispo Mother For Peace, et al.; (3) San Luis Obispo County, California, the Port San Luis Harbor District, the California Energy Commission, the Avila Beach Community Services District, and the Diablo Canyon Independent Safety Committee; and (4) the NRC staff.
G. Paul Bollwerk, III,
Administrative Judge.

[FR Doc. 03-1538 Filed 1-23-03; 8:45 am]

BILLING CODE 7590-01-P